ENVIRONMENTAL PROTECTION AGENCY

[EPA-HQ-OPP-2007-0319; FRL-8129-9]

Exposure Modeling Public Meeting

AGENCY: Environmental Protection Agency (EPA).

ACTION: Notice.

SUMMARY: An Exposure Modeling Public Meeting (EMPM) will be held for one day on June 12, 2007. This notice announces the location and time for the meeting and sets forth the tentative agenda topics.

DATES: The meeting will be held on June 12, 2007 from 9 a.m. to 3 p.m.

To request accommodation of a disability, please contact the person listed under FOR FURTHER INFORMATON CONTACT, preferably at least 10 days prior to the meeting, to give EPA as much time as possible to process your request.

ADDRESSES: The meeting will be held at Environmental Protection Agency, Office of Pesticide Programs (OPP), One Potomac Yard (South Building), 1st Floor South Conference Room, 2777 S. Crystal Drive, Arlington, VA 22202.

FOR FURTHER INFORMATION CONTACT: Greg Orrick, Environmental Fate and Effects Division, Office of Pesticide Programs, Environmental Protection Agency, 1200 Pennsylvania Ave., NW., Washington, DC 20460-0001; telephone number: (703) 305-6140; fax number: (703) 305-6309; e-mail address: orrick.greg@epa.gov

SUPPLEMENTARY INFORMATION:

I. General Information

A. Does this Action Apply to Me?

You may be potentially affected by this action if you are required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0319. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

On a triannual interval, an Exposure Modeling Public Meeting will be held for presentation and discussion of current issues in modeling pesticide fate, transport, and exposure in support of risk assessment in a regulatory context. Meeting dates and abstract requests are announced through the “empmlist” forum on the LYRIS list server at: https://lists.epa.gov/read/all_forums/.

III. How Can I Request to Participate in this Meeting?

You may submit a request to participate in this meeting to the person listed under FOR FURTHER INFORMATION CONTACT. Do not submit any information in your request that is considered CBI. Requests to participate in the meeting, identified by docket ID number EPA-HQ-OPP-2007-0319, must be received on or before May 31, 2007.

IV. Tentative Agenda

9 a.m. Welcome, Introductions, and Brief Updates

9:30 a.m. Model Review and Scenario Development for Urban Pesticide Runoff Model (Scott Jackson, CLA; Mark Cheplick, Amy Ritter and Marty Williams, WEI)

10 a.m. Urban Models: Concepts, Questions and Opportunities (Tharacad Ramanarayanan, Bayer and Paul Hendley, Syngenta)

10:45 a.m. Examination of Non-Agricultural Pesticide Use by means of GIS Coverages (Roy W. Meyer & Curtis Brown, New Jersey Department of Environmental Protection)

11:15 a.m. A Comparison of PRZM, RZWQM, AND TURFPQ for Modeling Turf Pesticides (Qingli Ma and Stuart Cohen, Environmental & Turf Services, Inc.)

11:45 a.m. Lunch

1 p.m. Methods for Estimating Spatial Distributions of Turf (Michelle Thawley, USEPA/EFED)

1:30 p.m. National PCA assessment for turf (Gerco Hoogeweg, Raghu Vamshi, and Marty Williams, Waterborne Environmental, Inc.)

2:15 p.m. Update on the Drift Reduction Technology (DRT) project (Faruque Khan and Norm Birchfield, USEPA/EFED)

2:45 p.m. Wrap-up

List of Subjects

Environmental protection, Modeling, Pesticides, Pest.

Dated: May 8, 2007.
Steven Bradbury,
Director, Environmental Fate and Effects Division, Office of Pesticide Programs.

[FR Doc. E7-9322 Filed 5-15-07; 8:45 am]

BILLING CODE 6560-50-S